NATIONAL TRANSPORTATION SAFETY BOARD

Sunshine Act Meeting

TIME AND DATE: 9:30am, Tuesday, February 25, 2020

PLACE: NTSB Conference Center, 429 L'Enfant Plaza SW, Washington, DC 20594.

STATUS: The one item is open to the public.

MATTERS TO BE CONSIDERED:

59775 Highway Accident Report—Collision Between a Sport Utility Vehicle Operating With Partial Driving Automation and a Crash Attenuator, Mountain View, California, March 23, 2018 (HWY18FH011)

CONTACT PERSON FOR MORE INFORMATION: Candi Bing at (202) 314-6403 or by email at bingc@ntsb.gov.

Media Information Contact: Christopher O'Neil by email at christopher.oneil@ntsb.gov or at (202) 314-6100.

The press and public may enter the NTSB Conference Center one hour prior to the meeting for set up and seating.

Individuals requesting specific accommodations should contact Rochelle McCallister at (202) 314-6305 or by email at Rochelle.McCallister@ntsb.gov by Wednesday, February 19, 2020.

The public may view the meeting via a live or archived webcast by accessing a link under “News & Events” on the NTSB home page at www.ntsb.gov.

Schedule updates, including weather-related cancellations, are also available at www.ntsb.gov.

The National Transportation Safety Board is holding this meeting under the Government in the Sunshine Act, 5 U.S.C. 552(b).

Dated: February 6, 2020.
LaSean R. McCray,
Alternate Federal Register Liaison Officer.

[FR Doc. 2020-02722 Filed 2-6-20; 4:15 pm]

BILLING CODE 7533-01-P